DEPARTMENT OF COMMERCE

National Oceanic and Atmospheric Administration

50 CFR Part 648

[Docket No. 020313058-2094-02 ; I.D. 030402A

RIN 0648-AP07

Fisheries of the Northeastern United States; Spiny Dogfish Fishery; 2002 Specifications

AGENCY: National Marine Fisheries Service (NMFS), National Oceanic and Atmospheric Administration (NOAA), Commerce.

ACTION: Final rule; final specifications.

SUMMARY: NMFS issues final specifications for the 2002 spiny dogfish fishery. This rule implements a commercial quota and possession limits for the 2002 fishing year to address overfishing of the spiny dogfish resource. This rule also makes a technical correction to the spiny dogfish regulations, to indicate that the target fishing mortality rate (F) specified for the period May 1, 2003 - April 30, 2004, should be F=0.03. This is specified in the Fishery Management Plan for the Spiny Dogfish fishery (FMP). The intent of this action is to comply with implementing regulations for the Fishery Management Plan for the FMP, which require NMFS to publish measures for the upcoming fishing year that will prevent overfishing of this fishery.

DATES: The amendment to part 648 is effective May 2, 2002. The 2002 final specifications are effective from May 2, 2002, through April 30, 2003.

ADDRESSES: Copies of supporting documents used by the Spiny Dogfish Monitoring Committee; the Regulatory Impact Review (RIR), the Final Regulatory Flexibility Analysis (FRFA) contained within the RIR, and the Environmental Assessment (EA) are available from the Northeast Regional Office, National Marine Fisheries Service, One Blackburn Drive, Gloucester, MA 01930-2298. The EA/RIR/FRFA is also accessible via the Internet at http://www.nero.nmfs.gov.

FOR FURTHER INFORMATION CONTACT: Bonnie L. Van Pelt, Fishery Policy Analyst, (978)281-9244, fax (978)281-9135, e-mail bonnie.l.vanpelt@noaa.gov.

SUPPLEMENTARY INFORMATION: A proposed rule for this action was published in the Federal Register on March 22, 2002, (67 FR 13303). The comment period closed on April 8, 2002.

Background

The spiny dogfish fishery is managed under an FMP developed jointly by the Mid-Atlantic Fishery Management Council and the New England Fishery Management Council (Councils). The implementing regulations for the dogfish fishery are found at 50 CFR part 648, subpart L.

Pursuant to 50 CFR 648.230, the Administrator, Northeast Region, NMFS, (Regional Administrator) implements measures for the 2002 fishing year to assure that the target fishing mortality rate (F), as specified in the FMP, is not exceeded. The target F and management measures (i.e., semi-annual commercial quota and possession limits) are summarized below. Detailed background information regarding the development of the proposed specifications for the 2002 spiny dogfish fishery was provided in the preamble to the proposed rule (67 FR 13303, March 22, 2002) and is not repeated here. In addition to establishing the annual measures, this action makes a technical correction to the spiny dogfish regulations to indicate that the target F, F=0.03, extends through April 30, 2004. The current regulations mistakenly reference a target F, F=0.03, through April 30, 2003.

Annual Commercial Quota and Possession Limits

The FMP specifies a target F of 0.03 for 2002 to be attained through a commercial quota, and possibly other management measures. This rule implements a commercial quota of 4 million lb (1.81 million kg) for the 2002 fishing year that is allocated on a semi-annual basis as follows: Quota Period 1 (May 1 - October 31) is allocated 57.9% of the 4-million lb (1.81 million kg) quota, or 2,316,000 lbs (1,050,512 kg), and Quota Period 2 (November 1 - April 30) is allocated 42.1% of the 4-million lb (1.81 million kg) quota, or 1,684,000 lbs (763,849 kg).

This final rule also maintains the existing possession limits of 600 lb (272 kg) and 300 lb (136 kg) for Quota Period 1 and Quota Period 2, respectively, to allow for the retention of spiny dogfish caught incidentally while fishing for other species throughout the entire fishing year.

Technical Correction

This rule will correct the current regulatory text to extend the target F of 0.03 through the end of the 2003-2004 fishing year (May 1, 2003 - April 30, 2004).

Comments and Responses

There were 2 written comments submitted in response to the proposed rule during the comment period. One came from the Massachusetts Division of Marine Fisheries (MADMF) and the other was from a group of environmental organizations.

NMFS considered all comments received during the comment period that are directly related to the proposed measures in making the decision to issue this final rule.

Comment 1: MADMF was opposed to the level of the proposed commercial quota and requested that NMFS implement a higher quota consistent with the NEFMC recommendation. MADMF believes the resource can support a small-scale directed fishery and still rebuild.

Response: The Spiny Dogfish Monitoring Committee (Monitoring Committee) indicated that the quota of 4.0 million lb that NMFS is implementing through this final rule is consistent with the objective to achieve F=0.03, as required by the FMP. A higher quota would cause the F target to be exceeded and would not comply with the FMP’s rebuilding program.

Comment 2: MADMF commented in favor of the higher possession limit of 7,000 lb recommended by the NEFMC and opposed the proposed possession limits. MADMF stated that processors could not operate efficiently (i.e., in cost effective manner) with erratic landing levels that would result from the lower possession limits.

Response: NMFS is maintaining the current possession limits (600 lb for Quota Period 1 and 300 lb for Quota Period 2) because these levels are intended to allow incidentally caught spiny dogfish to be landed during the quota period. Although these possession limits end the directed fishery, which depends on large volumes of landings of large spiny dogfish, this is an anticipated consequence of the FMP. This approach has been chosen because it is necessary to protect the mature female spiny dogfish stock component in order to rebuild the spawning stock. The 7,000 lb (3,175 kg) possession limit would allow for some directed fishing, which is inconsistent with the rebuilding program.

The impact of erratic bycatch landings on processors was considered fully during the development of the FMP. There were two scenarios anticipated in the FMP with respect to the impacts on the processing sector and resulting markets. First, markets for dogfish could be completely lost or, second, other market opportunities could develop. It was acknowledged that the first scenario would be the more likely. However, it was believed that the processing sector might adapt to the landings allowed during the rebuilding period.

Comment 3: The environmental organizations supported the 4-million lb commercial quota, while emphasizing that a 3-million lb quota would be more consistent with the rebuilding strategy outlined in the FMP. They also supported the proposed possession limits and strongly opposed higher possession limits, which would result in a directed fishery and derailed rebuilding efforts.

Response: NMFS is implementing the 4-million lb (1.81 million kg) commercial quota and 600 lb (272 kg)/300 lb (136 kg) possession limits for Quota Period 1 and 2, respectively consistent with the Monitoring Committee recommendation to maintain fishing mortality targets and rebuilding objectives of the FMP. The Monitoring Committee did not comment on a 3-million lb quota (1.35 million kg) quota, because the 4-million lb (1.81 million kg) commercial quota allows us to comply with the FMP’s fishing mortality and rebuilding objectives, while affording the industry some economic relief. Any further reduction in landings would have to be considered in light of potential increased spiny dogfish bycatch and discards.

Changes From the Proposed Rule

The preamble of the proposed rule referenced trip limits, when in fact this rule implements possession limits--defined as the maximum amount that can be landed in any one 24-hr period (calendar day).

There were no changes made to the regulatory text from the proposed rule.

Classification

This final rule has been determined to be not significant for purposes of E.O. 12866.

This action establishes annual quotas and maintains the current possession limits for the spiny dogfish fishery, which are used to control the harvest of spiny dogfish and to restrict landings when quotas are attained. This action must be taken immediately at the start of the 2002 fishing year on May 1, 2002, to conserve this resource. It would be impracticable to delay implementation of the quota provisions because a hiatus in harvest restrictions represented by the quota would allow for an unrestricted harvest and, if spiny dogfish are congregated in areas where other species are being targeted, the Period 1 quota will quickly be attained. In the absence of a commercial quota, there would be no ability to close the fishery to prevent further increases in fishing mortality and potential deleterious effects to rebuilding efforts. Therefore, the AA finds good cause under 5 U.S.C. 553(d)(3) to waive the 30-day delayed effectiveness period for the implementation of the 2002 Federal spiny dogfish quota.

NMFS and the MAFMC prepared a FRFA for this action. The FRFA includes comments on the Initial Regulatory Flexibility Act (IRFA), the discussion and the responses contained in the preamble to this final rule, and a summary of the analyses done in support of this action. Copies of the analysis are available from the Regional Administrator (see ADDRESSES). The preamble to the proposed rule included a detailed summary of the analyses contained in the IRFA, and that entire discussion is not repeated here. A summary of the FRFA follows:

The reason that action is being taken by the agency and the objectives of this final rule are explained in the preambles to the proposed rule and this final rule. This action does not contain any new collection-of-information, reporting, recordkeeping, or other compliance requirements. It does not duplicate, overlap, or conflict with any other Federal rules. There are no new compliance costs associated with this final rule.

Public Comments

None of the comments that were received on the measures contained in the proposed rule specifically referenced the IRFA analyses of the expected impacts of the proposed trip limit levels on small entities. Concerns about the impacts of the measures on industry were expressed and are discussed in the Comments and Responses section of this final rule (see response to Comments 1 and 2). No changes to the final rule were made as a result of these comments.

Number of Small Entities

The entities impacted by this action include 488 vessels that have reported (based on vessel trip report (VTR) data) spiny dogfish landings to NMFS in 2000 (the most recent year for which there is vessel-specific data). In addition, there are vessels that are not subject to the Federal reporting requirements because they fish exclusively in state waters. It is not possible to identify these vessels, but some number of them are likely to be impacted. There is no reason to presume the impacts on these vessels would be substantially different from the impact on Federally-permitted vessels. Furthermore, 2,079 vessels were issued Federal spiny dogfish permits in 2001, but a large percentage of those have not fished for spiny dogfish. It is presumed that these vessels are interested in the fishery but have chosen not to participate under the restrictive trip limits. If any of these vessels should choose to participate in the upcoming fishing year, they might experience revenue increases associated with landings of spiny dogfish but those increases cannot be estimated.

Minimizing Significant Economic Impact on Small Entities

This FRFA summary includes a discussion of minimizing significant economic impacts on small entities. The IRFA analyzed three alternatives: (1) Alternative 1 is implemented by this action (commercial quota of 4-million lb (1,814 mt) and possession limits of 600 lb (272 kg) and 300 lb (136 kg) for Quota Period 1 and Quota Period 2, respectively); (2) Both Alternative 2 (commercial quota of 8.8 million lb (4 million kg) and a possession limit of 7,000 lb (3,175 kg) for both quota periods) and Alternative 3 (no quota or possession limits) would have lower impact on small entities, but neither meets the conservation objectives of the FMP. Alternative 2 could not be enacted without amending the FMP to modify the F target specified in the rebuilding program. The circumstance contemplated in Alternative 3 could not be allowed under the FMP, which requires the fishery be managed consistent with the FMP.

The FMP determined that the spiny dogfish stock could not support a directed fishery. In the absence of a directed fishery, long-term profitability and solvancy issues could not have been anticipated and would be difficult to compute. Therefore, the potential changes in 2002 revenues under the 4-million lb (1.81-million kg) quota were evaluated relative to landings and revenues derived during 2001: 4.6 million lb (2.08 million kg) of landings, valued at $1,012,000. The analysis is based on the last full fishing year of landings data and assumed that the revenues of the 488 vessels that landed spiny dogfish in 2000 would be reduced proportionately by the proposed action. The reduction in overall gross revenues to the fishery as a whole was estimated to be about $132,000, or about $270 per vessel, compared to fishing year 2001. Compared to actual dogfish landings during the 2001 fishing year of 4.6 million lb (2,087 mt), the 4.0 million-lb (1,814 mt) quota represents a 13 percent reduction. However, the 4.0 million-lb (1,814 mt) quota would not be a reduction relative to the 2001 fishing year quota allocation. It is only due to the landings in excess of the quota that this quota specification for spiny dogfish is expected to result in a reduction in revenues.

List of Subjects in 50 CFR Part 648

Fisheries, Fishing, Reporting and recordkeeping requirements.

Dated: May 1, 2002.
William T. Hogarth,
Assistant Administrator for Fisheries, National Marine Fisheries Service.

For the reasons set out in the preamble, 50 CFR part 648 is amended as follows:

PART 648—FISHERIES OF THE NORTHEASTERN UNITED STATES

1. The authority citation for part 648 continues to read as follows:

Authority: 16 U.S.C. 1801 et seq.

2. In § 648.230, paragraph (a) is revised to read as follows:

§ 648.230 Catch quotas and other restrictions.

* * * * *

(a) Annual review. The Spiny Dogfish Monitoring Committee will annually review the following data, subject to availability, to determine the total allowable level of landings (TAL) and other restrictions necessary to assure a target fishing mortality rate (F) of 0.2 in 1999 through April 30, 2000, a target F of 0.03 from May 1, 2000, through April 30, 2004, and a target F of 0.08 thereafter will not be exceeded: Commercial and recreational catch data; current estimates of F; stock status; recent estimates of recruitment; virtual population analysis results; levels of noncompliance by fishermen or individual states; impact of size/mesh regulations; sea sampling data; impact of gear other than otter trawls and gill nets on the mortality of spiny dogfish; and any other relevant information.

* * * * *

[FR Doc. 02-11271 Filed 5-2-02; 3:28 pm]

BILLING CODE 3510-22-S